DEPARTMENT OF LABOR

Employment and Training Administration

[TA-W-50,895 and TA-W-50,895A]

Americal Corporation, Goldsboro, NC, Americal Corporation Henderson, NC; Amended Certification Regarding Eligibility To Apply for Worker Adjustment Assistance

In accordance with section 223 of the Trade Act of 1974 (19 U.S.C. 2273) the Department Labor issued a Certification of Eligibility to Apply for Worker Adjustment Assistance on March 12, 2003, applicable to workers of Americal Corporation, Goldsboro, North Carolina. The notice was published in the Federal Register on March 26, 2003 (68 FR 14707).

At the request of the company, the Department reviewed the certification for workers of the subject firm. The workers were engaged in the production of hosiery.

New findings show that worker separations occurred at the Henderson, North Carolina facility of the subject firm. Workers at Henderson, North Carolina produce leg wear (hosiery—full length, knee-length and thigh-lengths and socks) as well as occupy administrative offices for the subject firm.

Accordingly, the Department is amending the certification to cover workers at Americal Corporation, Henderson, North Carolina.

The intent of the Department's certification is to include all workers of Americal Corporation who were adversely affected by increased imports.

The amended notice applicable to TA-W-50,895 is hereby issued as follows:

All workers of Americal Corporation, Goldsboro, North Carolina (TA-W-50,895) and Americal Corporation, Henderson, North Carolina (TA-W-50,895A), who became totally or partially separated from employment on or after February 12, 2002, through March 12, 2005, are eligible to apply for adjustment assistance under section 223 of the Trade Act of 1974.

Signed at Washington DC this 7th day of May 2003.
Richard Church,
Certifying Officer, Division of Trade Adjustment Assistance.

[FR Doc. 03-12427 Filed 5-16-03; 8:45 am]

BILLING CODE 4510-30-P